Memorandum of January 15, 2019

Delegation of Authorities and Responsibilities Under Section 1763 of the National Defense Authorization Act for Fiscal Year 2019

Memorandum for the Secretary of Commerce

By the authority vested in me as President by the Constitution and the laws of the United States of America, including section 301 of title 3, United States Code, I hereby delegate to the Secretary of Commerce, in coordination with executive departments and agencies through the National Security Presidential Memorandum-4 process, the functions and authorities vested in the President by section 1763 of the National Defense Authorization Act for Fiscal Year 2019 (Public Law 115-232).

The delegation of authorities and responsibilities in this memorandum shall apply to any provision of any future public law that are the same or substantially the same as the provision referenced in this memorandum.

The Secretary of Commerce is authorized and directed to publish this memorandum in the Federal Register.

THE WHITE HOUSE,

Washington, January 15, 2019

[FR Doc. 2019-00093

Filed 1-18-19; 8:45 am]

Billing code 3510-07-P